DEPARTMENT OF ENERGY

Federal Energy Regulatory Commission

[Docket No. RP03-255-000]

MIGC, Inc.; Notice of Tariff Filing

February 20, 2003.

Take notice that on February 14, 2003, MIGC, Inc. (MIGC) tendered for filing as part of its FERC Gas Tariff, First Revised Volume No.1, Seventh Revised Sheet No. 90; First Revised Sheet No. 95; and Second Revised Sheet No. 115, to become effective March 18, 2003.

MIGC states that the purpose of this tariff filing is to revise MIGC's tariff to replace the physical address references with a reference to MIGC's Internet Web Site where MIGC's physical address, phone numbers and e-mail addresses are listed. MIGC states that the revisions to MIGC's tariff are necessitated by the upcoming address change of MIGC's corporate office.

Any person desiring to be heard or to protest said filing should file a motion to intervene or a protest with the Federal Energy Regulatory Commission, 888 First Street, NE., Washington, DC 20426, in accordance with sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 26, 2003.

Magalie R. Salas,
Secretary.

[FR Doc. 03-4468 Filed 2-25-03; 8:45 am]

BILLING CODE 6717-01-P